DEPARTMENT OF ENERGY

Federal Energy Regulatory Commission

[Docket No. CP05-357-008]

Cheniere Creole Trail Pipeline, L.P.; Notice of Application

March 6, 2008.

Take notice that on February 26, 2008, Cheniere Creole Trail Pipeline, L.P. (Cheniere), 700 Milam Street, Suite 800, Houston, Texas 77002, filed in the above-referenced docket an abbreviated application pursuant to section 7(c) of the Natural Gas Act (NGA) and part 157 of the regulations of the Commission, to amend its certificate authority issued on June 15, 2006 in Docket No. CP05-357-000 et al., as amended, in order to revise the initial transportation rates for Cheniere's Zone 1 facilities.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing an intervention or protest must serve a copy of that document on the Applicant. On or before the comment date, it is not necessary to serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll-free). For TTY, call (202) 502-8659.

Comment Date: March 17, 2008.

Kimberly D. Bose,
Secretary.

[FR Doc. E8-5032 Filed 3-12-08; 8:45 am]

BILLING CODE 6717-01-P